DEPARTMENT OF LABOR

Employment and Training Administration

[TA-W-59,078]

Hexion Specialty Chemicals, Inc. FFP Division Including On-Site Leased Workers of Express Personnel, High Point, NC; Notice of Affirmative Determination Regarding Application for Reconsideration

By application of May 11, 2006, a worker requested administrative reconsideration of the Department of Labor's Notice of Negative Determination Regarding Eligibility to Apply for Worker Adjustment Assistance, applicable to workers of the subject firm. The determination was issued on May 2, 2006. The Department's Notice of determination will soon be published in the Federal Register. Workers produce specialty wood adhesives and ancillary products.

The negative determination was based on the Department's findings that the subject firm did not increase imports of wood adhesives and ancillary products or shift production of wood adhesives and ancillary products abroad, and that the subject firm's major declining customers did not increase imports of specialty wood adhesives and ancillary products during the relevant period.

The worker alleges that the subject firm supplied wood adhesive to customers affected by increased imports of wood furniture.

Following the issuance of the negative determination, the Department received information which indicates that it is possible that information provided to the Department regarding subject firm sales and production may be inaccurate and/or incomplete.

The Department has carefully reviewed the request for reconsideration and all available information, and has determined that the Department will conduct further investigation based on new information provided by the worker and the company official.

Conclusion

After careful review of the application, I conclude that the claim is of sufficient weight to justify reconsideration of the Department of Labor's prior decision. The application is, therefore, granted.

Signed at Washington, DC, this 16th day of May 2006.
Elliott S. Kushner,
Certifying Officer, Division of Trade Adjustment Assistance.

[FR Doc. E6-8056 Filed 5-24-06; 8:45 am]

BILLING CODE 4510-30-P